DEPARTMENT OF ENERGY

Federal Energy Regulatory Commission

[Project No. 15280-000]

Stonecat Hydro, LLC; Notice of Preliminary Permit Application Accepted for Filing and Soliciting Comments, Motions To Intervene, and Competing Applications

On June 9, 2022, Stonecat Hydro, LLC, filed an application for a preliminary permit, pursuant to section 4(f) of the Federal Power Act, proposing to study the feasibility the Lower Swanton Dam Hydroelectric Project No. 15280 (project), to be located on the Missisquoi River in the Town of Swanton, Franklin County, Vermont. The sole purpose of a preliminary permit, if issued, is to grant the permit holder priority to file a license application during the permit term. A preliminary permit does not authorize the permit holder to perform any land-disturbing activities or otherwise enter upon lands or waters owned by others without the owners' express permission.

The proposed project would consist of the following: (1) an existing dam (Swanton Dam) that includes: (a) a west abutment that includes two 8-foot-long, 8-foot-high wooden headgates; and (b) an approximately 330-foot long spillway that would be retrofitted with: (i) 2-foot-high flashboards with a crest elevation of 110.0 feet mean sea level (msl) at the top of the flashboards; and (ii) a new 60-foot-long, 100-foot-wide reinforced concrete powerhouse at the east end of the spillway that includes three 283-kilowatt (kW) turbine-generator units, with a total installed capacity of approximately 850 kW; (2) an impoundment with a surface area of approximately 180 acres at an elevation of 110 feet msl; (3) a new 60-foot-long, 100-foot-wide intake structure that includes a reinforced concrete forebay and trashrack upstream of the new powerhouse; (4) a new 150-foot-long, 60-foot wide bedrock and reinforced concrete tailrace; (5) a new 12.47-kilovolt transmission line that would connect the turbine-generators to the local distribution grid; (6) a new fish passage facility that would utilize an approximately 300-foot-long, existing canal downstream of the west abutment; (7) an existing parking lot to provide access to project facilities; and (8) appurtenant facilities. The estimated annual generation of the Lower Swanton Dam Hydroelectric Project would be 3,580 megawatt-hours.

Applicant Contact: Mr. Peter Blanchfield, Chief Executive Officer, Stone Ridge Hydro, LLC, 16 Harrogate Road, New Hartford, New York 13413; phone: (650) 644-6003; email: peter.blanchfield@gmail.com.

FERC Contact: John Baummer; phone: (202) 502-6837; email: john.baummer@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15280-000.

More information about this project, including a copy of the application, can be viewed or printed on the “eLibrary” link of the Commission's website at https://www.ferc.gov/. Enter the docket number (P-15280) in the docket number field to access the document. For assistance, contact FERC Online Support.

Dated: December 2, 2022.
Kimberly D. Bose,
Secretary.

[FR Doc. 2022-26684 Filed 12-7-22; 8:45 am]

BILLING CODE 6717-01-P